DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Permit and Reporting Requirements for Non-Commercial Fishing in the Rose Atoll, Marianas Trench and Pacific Remote Islands Marine National Monuments.

OMB Control Number: 0648-0664.

Form Number(s): None.

Type of Request: Regular (extension of a currently approved information collection).

Number of Respondents: 35.

Average Hours per Response: Permit applications, 15 minutes each; logsheets, 20 minutes each.

Burden Hours: 44.

Needs and Uses: This request is for extension of a current information collection.

The National Marine Fisheries Service (NMFS) manages fishing activities in the Rose Atoll Marine, Marianas Trench, and Pacific Remote Islands Marine National Monuments. Regulations at 50 CFR part 665 require the owner and operator of a vessel used to non-commercially fish for, take, retain, or possess any management unit species in these monuments to hold a valid permit.

Regulations also require the owner and operator of a vessel that is chartered to fish recreationally for, take, retain, or possess, any management unit species in these monuments to hold a valid permit. The fishing vessel must be registered to the permit. The charter business must be established legally in the permit area where it will operate. Charter vessel clients are not required to have a permit.

The permit application collects basic information about the permit applicant, type of operation, vessel, and permit area. NMFS uses this information to determine permit eligibility. The information is important for understanding the nature of the fishery and provides a link to participants. It also aids in the enforcement of Fishery Ecosystem Plan measures.

Regulations also require the vessel operator to report a complete record of catch, effort, and other data on a NMFS logsheet. The vessel operator must record all requested information on the logsheet within 24 hours of the completion of each fishing day. The vessel operator also must sign, date, and submit the form to NMFS within 30 days of the end of each fishing trip.

Affected Public: Business or other for-profit organizations.

Frequency: Annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 18, 2016.
Sarah Brabson,
NOAA PRA Clearance Officer.

[FR Doc. 2016-09343 Filed 4-21-16; 8:45 am]

BILLING CODE 3510-22-P